DEPARTMENT OF THE INTERIOR

National Park Service

[NPS-AKR-GAAR-0228-9686: 9924-PYS]

Notice of Public Meeting for the National Park Service (NPS) Alaska Region's Subsistence Resource Commission (SRC) Program

AGENCY: National Park Service, Interior.

SUMMARY: The Gates of the Arctic National Park SRC will meet to develop and continue work on NPS subsistence program recommendations and other related subsistence management issues. The NPS SRC program is authorized under Title VIII, Section 808 of the Alaska National Interest Lands Conservation Act, Public Law 96-487, to operate in accordance with the provisions of the Federal Advisory Committee Act. The Federal Advisory Committee Act (Pub. L. 92-463, 86 Stat. 770) requires that public notice of this meeting to be announced in the Federal Register.

Public Availability of Comments: This meeting is open to the public and will have time allocated for public testimony. The public is welcome to present written or oral comments to the SRC. This meeting will be recorded and meeting minutes will be available upon request from the park superintendent for public inspection approximately six weeks after the meeting. Before including your address, telephone number, email address, or other personal identifying information in your comment, you should be aware that your entire comment—including your personal identifying information—may be made publicly available at any time. While you can ask us in your comment to withhold your personal identifying information from public review, we cannot guarantee that we will be able to do so.

If the meeting date and location are changed, a notice will be published in local newspapers and announced on local radio stations prior to the meeting date. SRC meeting locations and dates may need to be changed based on inclement weather or exceptional circumstances.

Gates of the Arctic National Park SRC Meeting Date and Location: The Gates of the Arctic National Park SRC will meet in Anaktuvuk Pass, Alaska, on Wednesday, April 18, 2012, and Thursday, April 19, 2012. Each day the meeting will start at 9 a.m. and conclude at 5 p.m. or until business is completed.

For Further Information on the Lake Clark National Park SRC Meeting Contact: Greg Dudgeon, Superintendent, or Marcy Okada, Subsistence Manager, at (907) 457-5752 or Clarence Summers, Subsistence Manager, NPS Alaska Regional Office, at (907) 644-3603. If you are interested in applying for Gates of the Arctic National Park SRC membership, contact the Superintendent at 4175 Geist Road, Fairbanks, AK 99709, or visit the park Web site at: http://www.nps.gov/gaar/contacts.htm.

Proposed SRC Meeting Agenda

The proposed meeting agenda for each meeting includes the following:

1. Call to Order—Confirm Quorum.

2. Welcome and Introductions.

3. Administrative Announcements.

4. Approve Agenda.

5. Approval of Minutes.

6. SRC Purpose/Membership.

7. Public and Other Agency Comments.

8. Old Business.

a. Subsistence Collections and Uses of Shed or Discarded Animal & Plants Environmental Assessment Update.

b. SRC Recommendations.

9. New Business.

10. Federal Subsistence Board Updates.

11. Alaska Board of Game Updates.

12. National Park Service Reports.

a. Superintendent Updates.

b. Subsistence Manager Updates.

c. Resource Management Updates.

d. Ranger Updates.

13. Public and Other Agency Comments.

14. SRC Work Session.

15. Select Time and Location for Next Meeting.

16. Adjourn Meeting.

Debora R. Cooper,
Associate Regional Director, Resources and Subsistence, Alaska Region.

[FR Doc. 2012-5908 Filed 3-12-12; 8:45 am]

BILLING CODE 4310-70-P